DEPARTMENT OF THE TREASURY

Submission for OMB Review; Comment Request

December 14, 2006.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before January 19, 2007 to be assured of consideration.

Internal Revenue Service (IRS)

OMB Number: 1545-1711.

Type of Review: Extension.

Title: REG-116050-99 (final) Stock Transfer Rules: Carryover of Earnings and Taxes.

Description: This document contains final regulations addressing the carry over of certain attributes, such as earnings and profits and foreign income tax accounts, when two corporations combine in a corporate reorganization or liquidation that is described in both section 367(b) and section 381 of the Internal Revenue Code.

Respondents: Businesses and other for-profit institutions.

Estimated Total Burden Hours: 1,800 hours.

OMB Number: 1545-2024.

Type of Review: Extension.

Title: Limited Payability Claim Against the United States For Proceeds of the Internal Revenue Refund Check.

Description: This collection is used for taxpayers completing a claim against the United States for the proceeds of an Internal Revenue refund check.

Respondents: Businesses and other for-profit institutions.

Estimated Total Burden Hours: 4,000 hours.

OMB Number: 1545-1096.

Title: CO-46-94 (Final) Losses on Small Business Stock.

Type of Review: Extension.

Description: Records are required by the Service to verify that the taxpayer is entitled to a section 1244 loss. The records will be used to determine whether the stock qualifies as section 1244 stock.

Respondents: Businesses and other for-profit institutions.

Estimated Total Burden Hours: 2,000 hours.

OMB Number: 1545-0794.

Title: Penalties for Underpayment of Deposits and Overstated Deposit Claims, and Time for Filing Information Returns of Owners, Officers and Directors of Foreign Corporations.

Type of Review: Extension.

Description: Section 6046 requires information returns with respect to certain foreign corporations and the regulations provide the date by which these returns must be filed.

Respondents: Individuals or Households.

Estimated Total Burden Hours: 1 hour.

OMB Number: 1545-1697.

Title: Revenue Procedure 2000-35 Section 1445 Withholding Certificates.

Type of Review: Extension.

Description: Revenue Procedure 2000-35 provides guidance concerning applications for withholding certificates under Code section 1445.

Respondents: Businesses and other for-profit institutions.

Estimated Total Burden Hours: 60,000 hours.

OMB Number: 1545-2027.

Title: Americans with Disabilities Act (ADA) Accommodations Request Packet.

Type of Review: Extension.

Description: It is necessary to collect this information so that ADA applicant may receive reasonable accommodation, as needed, to take the Special Enrollment Examination. We are utilizing the vendor's survey which complies with the ADA and the Rehabilitation Act of 1978.

Respondents: Individuals or households.

Estimated Total Burden Hours: 500 hours.

OMB Number: 1545-1551.

Title: Revenue Procedure 97-36, Revenue Procedure 97-38, Revenue Procedure 97-39, and Revenue Procedure 2002-9, Changes in Methods of Accounting.

Type of Review: Extension.

Description: The information collected in the four revenue procedures is required in order for the Commissioner to determine whether the taxpayer properly is requesting to change its method of accounting and the terms and conditions of the change.

Respondents: Businesses and other for-profit institutions, farms, and not-for-profit institutions.

Estimated Total Burden Hours: 222,454 hours.

OMB Number: 1545-0790.

Title: Notice of Inconsistent Treatment or Administrative Adjustment Request (AAR).

Type of Review: Extension.

Form: 8082.

Description: IRC sections 6222 and 6227 require partners to notify IRS by filing Form 8082 when they (1) treat partnership items inconsistent with the partnership's treatment (6222), and (2) change previously reported partnership items (6227). Sections 6244 and 860F extend this requirement to shareholders of S corporations and residuals of REMICs. Also, sections 6241 and 6034A(c) extend this requirement to partners in electing large partnerships and beneficiaries of estates and trusts.

Respondents: Businesses and other for-profit institutions.

Estimated Total Burden Hours: 51,024 hours.

Clearance Officer: Glenn P. Kirkland, (202) 622-3428, Internal Revenue Service, Room 6516, 1111 Constitution Avenue, NW., Washington, DC 20224.

OMB Reviewer: Alexander T. Hunt, (202) 395-7316, Office of Management and Budget, Room 10235, New Executive Office Building, Washington, DC 20503.

Robert Dahl,
Treasury PRA Clearance Officer.

[FR Doc. E6-21720 Filed 12-19-06; 8:45 am]

BILLING CODE 4830-01-P